NUCLEAR REGULATORY COMMISSION

[Docket No. 70-698; License No. SNM-770]

Westinghouse Electric Company, LLC, Waltz Mill Service Center, Madison, PA; Receipt of Request for Action

Notice is hereby given that by petition dated October 30, 2002, Viacom, Inc. (petitioner) has requested that the U.S. Nuclear Regulatory Commission (NRC) take action with regard to the Westinghouse Test Reactor and the Waltz Mill Service Center. The petitioner requests NRC to issue an Order to Westinghouse Electric Company LLC (“Westinghouse”), the holder of license SNM-770 on the Waltz Mill Service Center near Madison, PA, which would require Westinghouse to: (1) Provide certain radiological survey data to NRC which NRC has requested, and (2) accept under SNM-770 certain residual byproduct materials now held under Viacom license TR-2 and located at the former Westinghouse Test Reactor (WTR) facility at the Waltz Mill Site.

As the basis for this request, the petitioner states that Westinghouse's refusal to provide the survey data and to accept the residual byproduct materials now held under license TR-2 constitutes a violation of 10 CFR 50.5, Deliberate misconduct, which causes Viacom to be in violation of a license condition, the approved Decommissioning Plan (DP) for the WTR. The petitioner claims that granting the petition is necessary for compliance with both the DP and other commitments under SNM-770 and is needed to abate the violation of 10 CFR 50.5 to promote public health and safety by providing for safe completion of decommissioning of the WTR under the DP.

The request is being treated pursuant to 10 CFR 2.206 of the Commission's regulations. The request has been referred to the Director of the Office of Nuclear Material Safety and Safeguards (NMSS). As provided by §2.206, appropriate action will be taken on this petition within a reasonable time. The petitioner met with the NMSS petition review board on February 20, 2003 to discuss the petition. The results of that discussion were considered in the board's determination regarding the petition and the schedule for the review of the petition. A copy of this petition is available in ADAMS for inspection at the Commission's Public Document Room, located at One White Flint North, 11555 Rockville Pike (first floor), Rockville, Maryland, and from the ADAMS public access component on the NRC's Web site, http://www.nrc.gov.

Dated at Rockville, Maryland, this 13th day of March 2003.
For the Nuclear Regulatory Commission.
Martin Virgilio,
Director, Office of Nuclear Material Safety and Safeguards.

[FR Doc. 03-7339 Filed 3-26-03; 8:45 am]

BILLING CODE 7590-01-P